DEPARTMENT OF HOMELAND SECURITY

U.S. Citizenship and Immigration Services

[CIS No. 2681-21; DHS Docket No. USCIS-2013-0001]

RIN 1615-ZB72

Extension and Redesignation of Syria for Temporary Protected Status

AGENCY: U.S. Citizenship and Immigration Services, Department of Homeland Security.

ACTION: Notice.

SUMMARY: Through this notice, the Department of Homeland Security (DHS) announces that the Secretary of Homeland Security (Secretary) is extending the designation of Syria for Temporary Protected Status (TPS) for 18 months, from March 31, 2021 through September 30, 2022 and redesignating Syria for 18 months, effective March 31, 2021 through September 30, 2022. The extension allows currently eligible TPS beneficiaries to retain TPS through September 30, 2022, so long as they otherwise continue to meet the eligibility requirements for TPS. The redesignation of Syria allows additional individuals who have been continuously residing in the United States since March 19, 2021 to obtain TPS, if otherwise eligible. Through this notice, DHS also sets forth procedures necessary for Syrian nationals (or noncitizens having no nationality who last habitually resided in Syria) either to re-register under the extension, if they already have TPS, and to apply for renewal of their Employment Authorization Documents (EAD) with U.S. Citizenship and Immigration Services (USCIS) or to submit an initial registration application under the redesignation and apply for an EAD.

DATES: Extension of Designation of Syria for TPS: The 18-month extension of the TPS designation of Syria is effective March 31, 2021 and will remain in effect through September 30, 2022. The 60-day re-registration period runs from March 19, 2021 through May 18, 2021. (Note: It is important for re-registrants to timely re-register during this 60-day period and not to wait until their EADs expire.) Redesignation of Syria for TPS: The 18-month redesignation of Syria for TPS is effective March 31, 2021, and will remain in effect through September 30, 2022. The 180-day initial registration period for new applicants under the Syria TPS redesignation runs March 19, 2021 through September 15, 2021.

FOR FURTHER INFORMATION CONTACT:

• You may contact Maureen Dunn, Division Chief, Office of Policy and Strategy, U.S. Citizenship and Immigration Services, U.S. Department of Homeland Security, by mail at 5900 Capital Gateway Drive, Camp Springs, MD 20746, or by phone at 800-375-5283.

• For further information on TPS, including guidance on the re-registration process and additional information on eligibility, please visit the USCIS TPS web page at http://www.uscis.gov/tps. You can find specific information about this extension of Syria's TPS designation by selecting “Syria” from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at http://www.uscis.gov, or visit the USCIS Contact Center at uscis.gov/contactcenter.

• Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IJ—Immigration Judge

INA—Immigration and Nationality Act

IER—U.S. Department of Justice Civil Rights Division, Immigrant and Employee Rights Section

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Through this notice, DHS sets forth procedures necessary for eligible nationals of Syria (or noncitizens having no nationality who last habitually resided in Syria) to (1) re-register for TPS and to apply for renewal of their EADs with USCIS or (2) submit an initial registration application under the redesignation and apply for an EAD.

Re-registration is limited to individuals who have previously registered for TPS under the designation of Syria and whose applications have been granted.

For individuals who have already been granted TPS under Syria's designation, the 60-day re-registration period runs from March 19, 2021 through May 18, 2021. USCIS will issue new EADs with a September 30, 2022 expiration date to eligible Syrian TPS beneficiaries who timely re-register and apply for EADs. Given the timeframes involved with processing TPS re-registration applications, DHS recognizes that not all re-registrants may receive new EADs before their current EADs expire on March 31, 2021. Accordingly, through this Federal Register notice, DHS automatically extends the validity of EADs previously issued under the TPS designation of Syria for 180 days, through September 27, 2021. Therefore, TPS beneficiaries can show their EADs with: (1) A March 31, 2021 expiration date and (2) an A-12 or C-19 category code as proof of continued employment authorization through September 27, 2021. This notice explains how TPS beneficiaries and their employers may determine which EADs are automatically extended and how this affects the Form I-9, Employment Eligibility Verification, E-Verify, and USCIS Systematic Alien Verification for Entitlements (SAVE) processes.

Individuals who have a Syria TPS application (Form I-821) and/or Application for Employment Authorization (Form I-765) that was still pending as of March 19, 2021 do not need to file either application again. If USCIS approves an individual's Form I-821, USCIS will grant the individual TPS through September 30, 2022. Similarly, if USCIS approves a pending TPS-related Form I-765, USCIS will issue the individual a new EAD that will be valid through the same date. There are approximately 6,700 current beneficiaries under Syria's TPS designation.

Under the redesignation, individuals who currently do not have TPS may submit an initial application during the 180-day initial registration period that runs from March 19, 2021 through September 15, 2021. In addition to demonstrating continuous residence in the United States since March 19, 2021 and meeting other eligibility criteria, initial applicants for TPS under this redesignation must demonstrate that they have been continuously physically present in the United States since March 31, 2021, the effective date of this redesignation of Syria, before USCIS may grant them TPS. USCIS estimates that approximately 1,800 individuals are eligible to file initial applications for TPS under the redesignation of Syria.

What is temporary protected status (TPS)?

• TPS is a temporary immigration status granted to eligible nationals of a country designated for TPS under the INA, or to eligible persons without nationality who last habitually resided in the designated country.

• During the TPS designation period, TPS beneficiaries are eligible to remain in the United States, may not be removed, and are authorized to obtain EADs so long as they continue to meet the requirements of TPS.

• TPS beneficiaries may also apply for and be granted travel authorization as a matter of discretion. Upon return from such authorized travel, TPS beneficiaries retain the same immigration status they had prior to the travel.

○ The granting of TPS does not result in or lead to lawful permanent resident status.

• To qualify for TPS, beneficiaries must meet the eligibility standards at INA section 244(c)(1)-(2), 8 U.S.C. 1254a(c)(1)-(2).

• When the Secretary terminates a country's TPS designation, beneficiaries return to one of the following:

○ The same immigration status or category that they maintained before TPS, if any (unless that status or category has since expired or been terminated); or

○ Any other lawfully obtained immigration status or category they received while registered for TPS, as long as it is still valid beyond the date TPS terminates.

When was Syria designated for TPS?

Former Secretary of Homeland Security Janet Napolitano initially designated Syria for TPS on March 29, 2012, based on extraordinary and temporary conditions resulting from the Syrian military's violent suppression of opposition to President Bashar al-Assad's regime that prevented Syrian nationals from safely returning to Syria. See Designation of Syrian Arab Republic for Temporary Protected Status, 77 FR 19026 (Mar. 29, 2012). Following the initial designation, former Secretaries Napolitano and Jeh Johnson extended and newly designated Syria for TPS three times. In 2016, former Secretary Johnson both extended Syria's designation and newly designated Syria for TPS for 18 months through March 30, 2018. See Extension and Redesignation of Syria for Temporary Protected Status, 81 FR 50533 (Aug. 1, 2016). In 2018, former Secretary Kirstjen Nielsen extended Syria's designation for 18 months, through September 30, 2019. See Extension of the Designation of Syria for Temporary Protected Status, 83 FR 9329 (March 5, 2018). Most recently, in September 2019, former Acting Secretary Kevin McAleenan again extended Syria's TPS designation for 18 months based on ongoing armed conflict and extraordinary and temporary conditions, but he did not newly designate Syria for TPS at that time. See Extension of the Designation of Syria for Temporary Protected Status, 84 FR 49751 (Sep. 23, 2019).

What authority does the Secretary have to extend the designation of Syria for TPS?

Section 244(b)(1) of the INA, 8 U.S.C. 1254a(b)(1), authorizes the Secretary, after consultation with appropriate agencies of the U.S. Government (Government), to designate a foreign state (or part thereof) for TPS if the Secretary determines that certain country conditions exist.¹ The decision to designate any foreign state (or part thereof) is a discretionary decision, and there is no judicial review of any determination with respect to the designation, or termination of or extension of a designation. The Secretary, in his/her discretion, may then grant TPS to eligible nationals of that foreign state (or noncitizens having no nationality who last habitually resided in the designated country). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in the foreign state designated for TPS to determine whether the conditions for the TPS designation continue to be met. See INA section 244(b)(3)(A), 8 U.S.C. 1254a(b)(3)(A). If the Secretary does not determine that the foreign state no longer meets the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

Why is the Secretary extending and redesignating TPS for Syria through September 30, 2022?

DHS has reviewed conditions in Syria. Based on the review, including input received from other U.S. Government agencies, the Secretary has determined that an 18-month extension is warranted because the ongoing armed conflict and extraordinary and temporary conditions supporting Syria's TPS designation remain.

The protracted civil war continues to contribute to the severe humanitarian crisis in Syria and continues to demonstrate deliberate targeting of civilians, the use of chemical weapons and irregular warfare tactics, and forced conscription and use of child soldiers. The war has resulted in a sustained need for humanitarian assistance, an increase in refugees and displaced people, food insecurity, limited access to water and medical care, and a large-scale destruction of Syria's infrastructure.

As further indication of the deteriorating conditions, on October 8, 2020, President Donald Trump continued for one year the national emergency with respect to Syria declared in Executive Order 13894, citing “the actions by the Government of Turkey to conduct a military offensive into northeast Syria, undermines the campaign to defeat the Islamic State of Iraq and Syria, or ISIS, endangers civilians, and further threatens to undermine the peace, security, and stability in the region, and continues to pose an unusual and extraordinary threat to the national security and foreign policy of the United States.”

While the last documented chemical weapons attack by the Syrian government was an attack using chlorine on May 19, 2019 in Latakia province that injured several civilians, in October 2020, United States Ambassador to the UN Kelly Craft stated that Syria had breached its obligation under the Chemical Weapons Convention and UN resolutions to dismantle its chemical weapons program.

In addition to chemical weapons, according to the Department of State (DOS), the regime also frequently employed prohibited cluster munitions and barrel bombs. Per DOS, the Syrian Network for Human Rights ² documented at least 3,420 barrel bombs dropped by Russian and Syrian helicopters and airplanes on Idlib between April and September of 2019, often striking civilians and civilian infrastructure, including homes, medical facilities, and schools. In the last weeks of December 2020, the regime's forces dropped barrel bombs in Maaret al-Norman, resulting in the deaths of a child and a White Helmets humanitarian volunteer.

² The Syrian Network for Human Rights is “an independent, neutral, non-governmental, non-profit human rights organization” which documents human rights violations in Syria. https://sn4hr.org/.

DOS reported that in late 2019, regime and pro-regime forces attacked civilians in hospitals, residential areas, schools, and settlements for IDPs and refugee camps; these attacks included bombardment with barrel bombs in addition to the use of chemical weapons. These forces used the massacre of civilians, as well as their forced displacement, rape, starvation, and protracted sieges that occasionally forced local surrenders, as military tactics. In late 2019, ISIS members in Syria continued to plot or inspire external terrorist operations, also according to DOS.

According to the UN Independent International Commission of Inquiry on the Syrian Arab Republic, Syrian Government troops “carried out air and ground attacks which decimated civilian infrastructure, depopulated towns and villages,” killing hundreds of women, men and children” between November of 2019 and June of 2020. In a press release related to the report, Commission Chair Paulo Pinheiro stated that, “Children were shelled at school, parents were shelled at the market, patients were shelled at the hospital. . .entire families were bombarded even while fleeing. What is clear from the military campaign is that pro-government forces and UN-designated terrorists flagrantly violated the laws of war and the rights of Syrian civilians.”

According to the Internal Displacement Monitoring Center,³ Syria has the highest number of Internally Displaced Persons in the world, seeing 1.8 million new displacements in 2019, and an additional 1.5 million new displacements in the first half of 2020, mostly as a result of the regime's military offensives in the northeast and northwest areas of the country. In 2020, USAID reported 6.6 million people are internally displaced within Syria, an increase of 400,000 from USAID's 2019 reports. In 2020, UNHCR registered 5,580,396 Syrian refugees in neighboring countries, representing an increase of approximately 10,000 refugees from 5,570,382 Syrian refugees in neighboring countries in 2019. As of September 2020, the United States Agency for International Development (USAID) reported 11.1 million people in Syria were in need of humanitarian assistance (a reduction from 11.7 million people in 2019).

³ The Internal Displacement Monitoring Center is a non-profit organization that “provides data and analysis and supports partners to identify and implement solutions to internal displacement.” https://www.internal-displacement.org/.

In September 2020, the UN World Food Programme (WFP) estimated that 9.3 million people in Syria are food insecure, the highest number ever recorded, as the conflict persists and “the overall food security situation is deteriorating across the country.” USAID reported that “inflation, high food prices, and the worst drought in 30 years—that killed high numbers of livestock and drastically reduced crop yields in 2018—have also contributed to food assistance needs across Syria in 2019.” The COVID-19 pandemic in 2020 has also exacerbated food insecurity. In the summer of 2020, the head of the WFP assessed that, “Syria faces the risk of mass starvation or another mass exodus unless more aid money is made available.”

DOS says that, according to the UN Office for the Coordination of Humanitarian Affairs (UNOCHA), half of all health facilities were closed or partially functioning, and the conflict had killed hundreds of healthcare workers.

According to the World Bank, the conflict in Syria has continued to devastate the Syrian economy. A lack of sustained access to health care, education, housing, and food have exacerbated the effects of the conflict and pushed millions of people into unemployment and poverty.

Based upon this review and after consultation with appropriate Government agencies, the Secretary has determined that:

• The conditions supporting Syria's designation for TPS continue to be met. See INA section 244(b)(3)(A) and (C), 8 U.S.C. 1254a(b)(3)(A) and (C).

• There continues to be an ongoing armed conflict in Syria and, due to such conflict, requiring the return to Syria of Syrian nationals (or noncitizens having no nationality who last habitually resided in Syria) would pose a serious threat to their personal safety. See INA section 244(b)(1)(A), 8 U.S.C. 1254a(b)(1)(A).

• There continue to be extraordinary and temporary conditions in Syria that prevent Syrian nationals (or noncitizens having no nationality who last habitually resided in Syria) from returning to Syria in safety, and it is not contrary to the national interest of the United States to permit Syrian TPS beneficiaries to remain in the United States temporarily. See INA section 244(b)(1)(C), 8 U.S.C. 1254a(b)(1)(C).

• There are extraordinary and temporary conditions in Syria that prevent Syrian nationals (or noncitizens having no nationality who last habitually resided in Syria), who have arrived in the United States since Syria's 2016 TPS designation from returning to Syria in safety.

• The designation of Syria for TPS should be extended for an 18-month period, from March 31, 2021 through September 30, 2022. See INA section 244(b)(3)(C), 8 U.S.C. 1254a(b)(3)(C).

• The designation of Syria for TPS should be redesignated for an 18-month period, from March 31, 2021 through September 30, 2022. See INA section 244(b)(3)(C), 8 U.S.C. 1254a(b)(3)(C).

Notice of Extension of the TPS Designation and Redesignation of Syria for TPS

By the authority vested in me as Secretary under INA section 244, 8 U.S.C. 1254a, I have determined, after consultation with the appropriate Government agencies, the conditions supporting Syria's designation for TPS continue to be met. See INA section 244(b)(3)(A), 8 U.S.C. 1254a(b)(3)(A). On the basis of this determination, I am simultaneously extending the existing designation of TPS for Syria for 18 months, from March 31, 2021 through September 30, 2022 and redesignating Syria for TPS for the same 18-month period. See INA section 244(b)(1)(A), (b)(1)(C) and (b)(2); 8 U.S.C. 1254a(b)(1)(A), (b)(1)(C), and (b)(2).

Alejandro N. Mayorkas,
Secretary, U.S. Department of Homeland Security.

Required Application Forms and Application Fees To Register or Re-Register for TPS

To register or re-register for TPS based on the designation of Syria, you must submit an Application for Temporary Protected Status (Form I-821). If you are filing an initial application, you must pay the fee for the Application for Temporary Protected Status (Form I-821) or request a fee waiver. If you are filing an application for re-registration, you do not need to pay the fee for the Application for Temporary Protected Status (Form I-821). There is no Form I-821 fee for re-registration. See 8 CFR 244.17. You may be required to pay the biometric services fee. Please see additional information under the “Biometric Services Fee” section of this notice.

Through this Federal Register notice, your existing EAD issued under the TPS designation of Syria with the expiration date of March 31, 2021, is automatically extended for 180 days, through September 27, 2021. Although not required to do so, if you want to obtain a new EAD valid through September 30, 2022, you must file an Application for Employment Authorization (Form I-765) and pay the Form I-765 fee (or submit a Request for a Fee Waiver (Form I-912)). If you do not want a new EAD, you do not have to file Form I-765 and pay the Form I-765 fee. If you do not want to request a new EAD now, you may also file Form I-765 at a later date and pay the fee (or request a fee waiver), provided that you still have TPS or a pending TPS application.

If you have a Form I-821 and/or Form I-765 that was still pending as of March 19, 2021, then you do not need to file either application again. If USCIS approves your pending TPS application, USCIS will grant you TPS through September 30, 2022. Similarly, if USCIS approves your pending TPS-related Form I-765, it will be valid through the same date. If you are applying for initial registration and want an EAD, you must file and pay the fee for the Application for Employment Authorization (Form I-765).

You may file the application for a new EAD either prior to or after your current EAD has expired. However, you are strongly encouraged to file your application for a new EAD as early as possible to avoid gaps in the validity of your employment authorization documentation and to ensure that you receive your new EAD by September 27, 2021.

For more information on the application forms and fees for TPS, please visit the USCIS TPS web page at http://www.uscis.gov/tps. Fees for the Form I-821, the Form I-765, and biometric services are also described in 8 CFR 103.7(b)(1)(i).

Biometric Services Fee

Biometrics (such as fingerprints) are required for all applicants 14 years of age and older. Those applicants must submit a biometric services fee. As previously stated, if you are unable to pay the biometric services fee, you may complete a Request for Fee Waiver (Form I-912). For more information on the application forms and fees for TPS, please visit the USCIS TPS web page at www.uscis.gov/tps. If necessary, you may be required to visit an Application Support Center to have your biometrics captured. For additional information on the USCIS biometrics screening process, please see the USCIS Customer Profile Management Service Privacy Impact Assessment, available at www.dhs.gov/privacy.

Refiling a TPS Re-Registration Application After Receiving a Denial of a Fee Waiver Request

You should file as soon as possible within the 60-day re-registration period so USCIS can process your application and issue any EAD promptly. Properly filing early will also allow you to have time to refile your application before the deadline, should USCIS deny your fee waiver request. If, however, you receive a denial of your fee waiver request and are unable to refile by the re-registration deadline, you may still refile your Form I-821 with the biometrics fee. USCIS will review this situation to determine whether you established good cause for late TPS re-registration. However, you are urged to refile within 45 days of the date on any USCIS fee waiver denial notice, if possible. See INA section 244(c)(3)(C); 8 U.S.C. 1254a(c)(3)(C); 8 CFR 244.17(b). For more information on good cause for late re-registration, visit the USCIS TPS web page at http://www.uscis.gov/tps. Following denial of your fee waiver request, you may also refile your Form I-765 with fee either with your Form I-821 or at a later time, if you choose.

Note: Although a re-registering TPS beneficiary age 14 and older must pay the biometric services fee (but not the Form I-821 fee) when filing a TPS re-registration application, you may decide to wait to request an EAD. Therefore, you do not have to file the Form I-765 or pay the associated Form I765 fee (or request a fee waiver) at the time of re-registration, and could wait to seek an EAD until after USCIS has approved your TPS re-registration application. If you choose to do this, to re-register for TPS you would only need to file the Form I-821 with the biometric services fee, if applicable (or request a fee waiver).

Mailing Information

Mail your application for TPS to the proper address in Table 1.

Table 1—Mailing Addresses
If you would like to send your application by: | Then, mail your application to:
U.S. Postal Service | U.S. Citizenship and Immigration Services, Attn: TPS Syria, P.O. Box 6943, Chicago, IL 60680-6943.
FedEx, UPS, or DHL | U.S. Citizenship and Immigration Services, Attn: TPS Syria, 131 S Dearborn Street—3rd Floor, Chicago, IL 60603-5517.

If you were granted TPS by an Immigration Judge (IJ) or the Board of Immigration Appeals (BIA) and you wish to request an EAD or are re-registering for the first time following a grant of TPS by an IJ or the BIA, please mail your application to the appropriate mailing address in Table 1. When re-registering and requesting an EAD based on an IJ/BIA grant of TPS, please include a copy of the IJ or BIA order granting you TPS with your application. This will help us to verify your grant of TPS and process your application.

Supporting Documents

The filing instructions on the Form I-821 list all the documents needed to establish eligibility for TPS. You may also find information on the acceptable documentation and other requirements for applying or registering for TPS on the USCIS website at www.uscis.gov/tps under “Syria.”

Employment Authorization Document (EAD)

How can I obtain information on the status of my EAD request?

To get case status information about your TPS application, including the status of an EAD request, you can check Case Status Online at http://www.uscis.gov, or visit the USCIS Contact Center at uscis.gov/contactcenter. If your Form I-765 has been pending for more than 90 days, and you still need assistance, you may ask a question about your case online at egov.uscis.gov/e-request/Intro.do or call the USCIS Contact Center at 800-375-5283 (TTY 800-767-1833).

Am I eligible to receive an automatic 180-day extension of my current EAD through September 27, 2021 using this Federal Register Notice?

Yes. Regardless of your country of birth, provided that you currently have a Syria TPS-based EAD with a marked expiration date of March 31, 2021, bearing the notation A-12 or C-19 on the face of the card under Category, this notice automatically extends your EAD through September 27, 2021.

Although this Federal Register notice automatically extends your EAD through September 27, 2021 you must re-register timely for TPS in accordance with the procedures described in this Federal Register notice to maintain your TPS.

When hired, what documentation may I show to my employer as evidence of employment authorization and identity when completing Form I-9?

You can find the Lists of Acceptable Documents on the third page of Form I-9 as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization), or one document from List B (which provides evidence of your identity) together with one document from List C (which provides evidence of employment authorization), or you may present an acceptable receipt for List A, List B, or List C documents as described in the Form I-9 instructions. Employers may not reject a document based on a future expiration date. You can find additional information about Form I-9 on the I-9 Central web page at http://www.uscis.gov/I-9Central.

An EAD is an acceptable document under List A. See the section “How do my employer and I complete Form I-9 using my automatically extended EAD for a new job?” of this Federal Register notice for further information. If your EAD has an expiration date of March 31, 2021 and states A-12 or C-19 under Category, it has been extended automatically by virtue of this Federal Register notice and you may choose to present your EAD to your employer as proof of identity and employment eligibility for Form I-9 through September 27, 2021, unless your TPS has been withdrawn or your request for TPS has been denied. See the subsection titled, “How do my employer and I complete the Form I-9 using my automatically extended EAD for a new job?” for further information.

As an alternative to presenting evidence of your automatically extended EAD, you may choose to present any other acceptable document from List A, a combination of one selection from List B and one selection from List C, or a valid receipt.

What documentation may I present to my employer for Form I-9 if I am already employed but my current TPS-related EAD is set to expire?

Even though your EAD has been automatically extended, your employer is required by law to ask you about your continued employment authorization. Your employer may need to re-inspect your automatically extended EAD to check the Card Expires date and Category code if your employer did not keep a copy of your EAD when you initially presented it. Once your employer has reviewed the Card Expiration date and Category code, your employer should update the EAD expiration date in Section 2 of Form I-9. See the section “What updates should my current employer make to Form I-9 if my EAD has been automatically extended?” of this Federal Register notice for further information. You may show this Federal Register notice to your employer to explain what to do for Form I-9 and to show that your EAD has been automatically extended through September 27, 2021.The last day of the automatic EAD extension is September 27, 2021. Before you start work on September 28, 2021, your employer is required by law to reverify your employment authorization in Section 3 of Form I-9. At that time, you must present any document from List A or any document from List C on Form I-9 Lists of Acceptable Documents, or an acceptable List A or List C receipt described in the Form I-9 instructions to reverify employment authorization.

Your employer may not specify which List A or List C document you must present and cannot reject an acceptable receipt.

Can my employer require that I provide any other documentation to prove my status, such as proof of my Syrian citizenship or a Form I-797C showing I re-registered for TPS?

No. When completing Form I-9, including reverifying employment authorization, employers must accept any documentation that appears on the Form I-9 Lists of Acceptable Documents that reasonably appears to be genuine and that relates to you, or an acceptable List A, List B, or List C receipt. Employers need not reverify List B identity documents. Employers may not request documentation that does not appear on the “Lists of Acceptable Documents.” Therefore, employers may not request proof of Syrian citizenship or proof of re-registration for TPS when completing Form I-9 for new hires or reverifying the employment authorization of current employees. If you present an EAD that has been automatically extended, employers should accept it as a valid List A document so long as the EAD reasonably appears to be genuine and relates to you. Refer to the Note to Employees section of this Federal Register notice for important information about your rights if your employer rejects lawful documentation, requires additional documentation, or otherwise discriminates against you based on your citizenship or immigration status, or your national origin.

How do my employer and I complete the Form I-9 using my automatically extended EAD for a new job?

When using an automatically extended EAD to complete Form I-9 for a new job before September 28, 2021, for Section 1, you should:

a. Check “An alien authorized to work until” and enter September 27, 2021 as the “expiration date”; and

b. Enter your Alien Number/USCIS number or A-Number where indicated (your EAD or other document from DHS will have your USCIS number or A-Number printed on it; the USCIS number is the same as your A-Number without the A prefix).

2. For Section 2, employers should:

a. Determine if the EAD is auto-extended by ensuring it is in category A-12 or C-19 and has a Card Expires date of March 31, 2021;

b. Write in the document title;

c. Enter the issuing authority;

d. Provide the document number; and

e. Write September 27, 2021, as the expiration date.

Before the start of work on September 28, 2021, employers must reverify the employee's employment authorization in Section 3 of Form I-9.

What updates should my current employer make to Form I-9 if my EAD has been automatically extended?

If you presented a TPS-related EAD that was valid when you first started your job and your EAD has now been automatically extended, your employer may need to re-inspect your current EAD if they do not have a copy of the EAD on file. Your employer should determine if your EAD is automatically extended by ensuring that it contains Category A-12 or C-19 and has a Card Expires date of March 31, 2021.

If your employer determines that your EAD has been automatically extended, your employer should update Section 2 of your previously completed Form I-9 as follows:

1. Write EAD EXT and September 27, 2021 as the last day of the automatic extension in the Additional Information field; and

2. Initial and date the correction.

Note: This is not considered a reverification. Employers do not need to complete Section 3 until either the 180-day automatic extension has ended, or the employee presents a new document to show continued employment authorization, whichever is sooner. By September 28, 2021, when the employee's automatically extended EAD has expired, employers are required by law to reverify the employee's employment authorization in Section 3.

If I am an employer enrolled in E-Verify, how do I verify a new employee whose EAD has been automatically extended?

Employers may create a case in E-Verify for a new employee by entering the number from the Document Number field on Form I-9 into the document number field in E-Verify.

If I am an employer enrolled in E-Verify, what do I do when I receive a “Work Authorization Documents Expiration” alert for an automatically extended EAD?

E-Verify automated the verification process for TPS-related EADs that are automatically extended. If you have employees who provided a TPS-related EAD when they first started working for you, you will receive a “Work Authorization Documents Expiring” case alert when the auto-extension period for this EAD is about to expire. Before this employee starts work on September 28, 2021, you must reverify his or her employment authorization in Section 3 of Form I-9. Employers should not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I9Central@uscis.dhs.gov. USCIS accepts calls and emails in English and many other languages. For questions about avoiding discrimination during the employment eligibility verification process (Form I-9 and E-Verify), employers may call the U.S. Department of Justice's Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. Calls are accepted in English, Spanish, and many other languages. Employees or applicants may also call the IER Worker Hotline at 800-255-7688 (TTY 800-237-2515) for information regarding employment discrimination based upon citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of Tentative Nonconfirmation (TNC) must promptly inform employees of the TNC and give such employees an opportunity to contest the TNC. A TNC case result means that the information entered into E-Verify from an employee's Form I-9 differs from Federal or state government records.

Employers may not terminate, suspend, delay training, withhold pay, lower pay, or take any adverse action against an employee because of the TNC while the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and on the USCIS and E-Verify websites at https://www.uscis.gov/i-9-central and https://www.e-verify.gov.

Note Regarding Federal, State, and Local Government Agencies (Such as Departments of Motor Vehicles)

For Federal purposes, TPS beneficiaries presenting an EAD referenced in this Federal Register notice do not need to show any other document, such as an I-797C Notice of Action, to prove that they qualify for this extension. However, while Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are a TPS beneficiary, show you are authorized to work based on TPS or other status, and/or that may be used by DHS to determine whether you have TPS or other immigration status. Examples of such documents are:

• Your current EAD;

• A copy of your Form I-797C, Notice of Action, for your Form I-765;

• A copy of your Form I-797C, Notice of Action, for your Form I-821 for this re-registration;

• A copy of your Form I-797, the notice of approval, for a past or current Form I-821, if you received one from USCIS; or

• Any other relevant DHS-issued document that indicates your immigration status or authorization to be in the United States, or that may be used by DHS to determine whether you have such status or authorization to remain in the United States.

Check with the government agency regarding which document(s) the agency will accept. Some benefit-granting agencies use USCIS' Systematic Alien Verification for Entitlements (SAVE) program to confirm the current immigration status of applicants for public benefits. While SAVE can verify when an individual has TPS, each agency's procedures govern whether they will accept an unexpired EAD, Form I-797, or Form I-94, Arrival/Departure Record. If an agency accepts the type of TPS-related document you are presenting, such as an EAD, the agency should accept your automatically extended EAD. You should:

a. Present the agency with a copy of the relevant Federal Register notice showing the extension of TPS-related documentation in addition to your recent TPS-related document with your A-number, USCIS number or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but, occasionally, verification can be delayed. You can check the status of your SAVE verification by using CaseCheck at save.uscis.gov/casecheck/. CaseCheck is a free service that lets you follow the progress of your SAVE verification case using your date of birth and one immigration identifier number (A-number, USCIS number or Form I-94 number) or Verification Case Number. If an agency has denied your application based solely or in part on a SAVE response, the agency must offer you the opportunity to appeal the decision in accordance with the agency's procedures. If the agency has received and acted upon or will act upon a SAVE verification and you do not believe the SAVE response is correct, find detailed information on how to make corrections or update your immigration record, make an appointment, or submit a written request to correct records. More information can be found on the SAVE website at www.uscis.gov/save.

[FR Doc. 2021-05715 Filed 3-18-21; 8:45 am]

BILLING CODE 9111-97-P